Proclamation 10435 of August 31, 2022

National Prostate Cancer Awareness Month, 2022

By the President of the United States of America

A Proclamation

During National Prostate Cancer Awareness Month, we recommit ourselves to taking on a cancer that will affect over 260,000 people in America this year alone. It is for those we have lost, those who continue to fight, and those who will undergo this battle in the future that we redouble our efforts to better understand prostate cancer, develop innovative treatments, and make care affordable and accessible.

Ending cancer as we know it is a top priority for my Administration and a key pillar of the Unity Agenda that I announced in my State of the Union Address. This is personal to my family, as it is for millions of Americans. That is why the First Lady and I reignited our 2016 Cancer Moonshot Initiative, setting a goal of cutting the cancer death rate by at least half over the next 25 years. My Administration created a new Cancer Cabinet to ensure that Federal agencies can better coordinate research and development. And with bipartisan support, we secured $1 billion in funding from the Congress to launch the Advanced Research Projects Agency for Health (ARPA-H), which will develop cutting-edge cancer medicines, therapies, and early detection technologies.

While our Nation's scientists push hard to find cures, we must also safeguard protections for patients with preexisting conditions and make treatments more affordable for individuals diagnosed with prostate cancer. No one should worry about whether they can pay for their doctor or choose between filling a prescription and putting food on the table. The provisions in the Inflation Reduction Act will fulfil my promise to make prescription drugs more affordable for millions of Americans—many of whom are living with illnesses like cancer—by capping out-of-pocket prescription drug costs at $2,000. And it will finally allow Medicare the ability to negotiate prescription drug prices.

We must also increase awareness about the symptoms of prostate cancer so it can be detected and treated as early as possible. And it is important that we acknowledge how prostate cancer affects us unequally. Men over the age of 65, men who have a family history of prostate cancer, and Black men are most likely to be diagnosed and to die from this disease. I encourage these and all Americans to talk to their primary care providers about the risk factors for prostate cancer, ask about opportunities for screenings, and learn more about this disease at cancer.gov/types/prostateandcdc.gov/cancer/prostate.

Our Nation is defined by possibilities, and when we invest in American spirit and American ingenuity, there is nothing we cannot accomplish. During this National Prostate Cancer Awareness Month, let us mourn those we have lost, offer strength to those who continue to fight, thank the health care workers who battle this disease to give others a chance at life, and join forces as one to protect the health of future generations.

NOW, THEREFORE, I, JOSEPH R. BIDEN JR., President of the United States of America, by virtue of the authority vested in me by the Constitution and the laws of the United States, do hereby proclaim September 2022 as National Prostate Cancer Awareness Month. I encourage citizens, government agencies, private businesses, nonprofit organizations, and other interested groups to join in activities that will increase awareness of what Americans can do to prevent and cure prostate cancer.

IN WITNESS WHEREOF, I have hereunto set my hand this thirty-first day of August, in the year of our Lord two thousand twenty-two, and of the Independence of the United States of America the two hundred and forty-seventh.

[FR Doc. 2022-19300

Filed 9-2-22; 8:45 am]

Billing code 3395-F2-P